DEPARTMENT OF THE INTERIOR

National Park Service

[NPS-WASO-NAGPRA-NPS0033281; PPWOCRADN0-PCU00RP14.R50000]

Notice of Inventory Completion: Fort Lewis College, Durango, CO

AGENCY: National Park Service, Interior.

ACTION: Notice.

SUMMARY: Fort Lewis College has completed an inventory of associated funerary objects, in consultation with the appropriate Indian Tribes or Native Hawaiian organizations, and has determined that there is a cultural affiliation between the associated funerary objects and present-day Indian Tribes or Native Hawaiian organizations. Lineal descendants or representatives of any Indian Tribe or Native Hawaiian organization not identified in this notice that wish to request transfer of control of these associated funerary objects should submit a written request to the Fort Lewis College. If no additional requestors come forward, transfer of control of the associated funerary objects to the lineal descendants, Indian Tribes, or Native Hawaiian organizations stated in this notice may proceed.

DATES: Lineal descendants or representatives of any Indian Tribe or Native Hawaiian organization not identified in this notice that wish to request transfer of control of these associated funerary objects should submit a written request with information in support of the request to Fort Lewis College at the address in this notice by February 22, 2022.

FOR FURTHER INFORMATION CONTACT: Dr. Kathleen Fine-Dare, NAGPRA Liaison, Fort Lewis College, 205 Center of Southwest Studies, 1000 Rim Drive, Durango, CO 81301, telephone (970) 247-7438, email fine_k@fortlewis.edu.

SUPPLEMENTARY INFORMATION: Notice is here given in accordance with the Native American Graves Protection and Repatriation Act (NAGPRA), 25 U.S.C. 3003, of the completion of an inventory of associated funerary objects under the control of Fort Lewis College, Durango, CO. The associated funerary objects were removed from La Plata County and Dolores County, CO.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the associated funerary objects was made by Fort Lewis College, Center of Southwest Studies professional staff in partnership with NAGPRA archeological specialist Blythe Morrison and in eight separate written letter/email consultations with representatives of the Hopi Tribe of Arizona; Jicarilla Apache Nation, New Mexico; Navajo Nation, Arizona, New Mexico, & Utah; Ohkay Owingeh, New Mexico [previously listed as Pueblo of San Juan]; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Clara, New Mexico; Pueblo of Taos, New Mexico; Pueblo of Tesuque, New Mexico; Pueblo of Zia, New Mexico; Santo Domingo Pueblo [previously listed as Kewa Pueblo, New Mexico and as Pueblo of Santo Domingo]; Southern Ute Indian Tribe of the Southern Ute Reservation, Colorado; Ute Indian Tribe of the Uintah & Ouray Reservation, Utah; Ute Mountain Ute Tribe [previously listed as Ute Mountain Tribe of the Ute Mountain Reservation, Colorado, New Mexico, & Utah]; Ysleta del Sur Pueblo [previously listed as Ysleta Del Sur Pueblo of Texas]; and the Zuni Tribe of the Zuni Reservation, New Mexico.

In addition, several face-to-face consultation meetings were held at Fort Lewis College to review the collections. On August 30, 2018, representatives of the Hopi Tribe of Arizona; Jicarilla Apache Nation, New Mexico; Pueblo of Acoma, New Mexico; Pueblo of San Felipe, New Mexico; Pueblo of Tesuque, New Mexico; and the Southern Ute Indian Tribe of the Southern Ute Reservation, Colorado were able to review the associated funerary objects (at that time they were still categorized as unassociated funerary objects included with the Homer Root Collection). On September 6-7, 2018 (Zuni Tribe of the Zuni Reservation, New Mexico); September 13, 2018 (Ute Indian Tribe of the Uintah & Ouray Reservation, Utah and Ysleta del Sur Pueblo [previously listed as Ysleta Del Sur Pueblo of Texas]); October 4, 2018 (Navajo Nation, Arizona, New Mexico, & Utah and Ute Mountain Ute Tribe [previously listed as Ute Mountain Tribe of the Ute Mountain Reservation, Colorado, New Mexico, & Utah]); October 9, 2018 (Pueblo of Santa Clara, New Mexico); and May 14, 2019 (Pueblo of Laguna, New Mexico and Pueblo of San Ildefonso, New Mexico).

Hereafter all Indian Tribes listed in this section are referred to as “The Consulted Tribes.”

History and Description of the Associated Funerary Objects

This notice concerns seven objects that are associated with human remains that were in the possession of the La Plata County Historical Society, Durango, Colorado. A Notice of Inventory Completion for the human remains was published in the Federal Register on April 4, 2018 (83 FR 14490-14492), and the human remains have been repatriated to the Hopi Tribe of Arizona.

In September of 1936, human remains representing, at minimum, 22 individuals were excavated from a burial site within the city limits of Durango, CO. The excavation was carried out at the Ignacio site (12:18) by members of the National Youth Administration under the supervision of Helen Sloan Daniels, an avocational archeological enthusiast, in anticipation of the creation of a gravel pit operated by the City of Durango. (In 2017, the site was given Smithsonian Site Number 5LP11284.) The site, which contained a pit structure, a midden, and several room blocks, has been identified as belonging to the late Basketmaker III or early Pueblo I period.

After being disinterred, the human remains were taken to the Durango Public Library for cleaning, display, and storage. At some unknown time, the human remains were transferred to the private residence of Helen Sloan Daniels in Durango, CO. In 1989, they were donated to the La Plata County Historical Society. In 1962, six of the associated funerary objects were donated to the Fort Lewis College Museum, and in 2001, they were transferred to the Fort Lewis College Center of Southwest Studies (CSWS).

These six associated funerary objects have been determined to be associated with the remains of four children that were in the possession of the La Plata County Historical Society. The six unassociated funerary objects are two Rosa Grayware jars, two Rosa Grayware pitchers, one Rosa Grayware bowl, and one Rosa Black-on-White bowl. Pottery attributes indicate that the objects were manufactured during the Basketmaker III/Pueblo I period, A.D. 500-900.

In 1937, human remains representing at minimum, 27 individuals were excavated from an archeological site on private land (“Sago School”) in Dove Creek, Dolores County, CO. National Youth Administration (NYA) workers, under the supervision of archeological enthusiast Lola Sanders, removed the burial items for the Durango Public Library Museum Project. At least one associated funerary object, a Mesa Verde Black-on-White bowl (1962:02111), was given to the Durango Public Library by Sanders. At an unknown date, Helen Sloan Daniels donated the bowl to the Fort Lewis College Museum. The bowl's current location unknown. The human remains of the 27 individuals with which it is associated are currently in the care of the La Plata County Historical Society. The one associated funerary object (FLC Catalogue #1962:02112) is a Mesa Verde Black-on-White mug. Pottery attributes indicate that the mug was manufactured during the Pueblo II period, A.D. 900-1150.

These associated funerary objects listed in this notice are most likely from Ancestral Puebloan sites dating from the Basketmaker III (A.D. 500) to the Pueblo III (A.D. 1300) periods. Consultation with members of the Hopi Tribe of Arizona and other Tribes have determined that these cultural objects are of Puebloan ancestry. In addition, cultural affiliation studies from Mesa Verde National Park, Fort Lewis College, Navajo Reservoir, Canyons of the Ancients, and the San Juan District establish cultural affiliation of the ancient Mesa Verde pueblos with the 21 federally recognized Pueblo Tribes of Arizona, New Mexico, and Texas. The preponderance of geographical, kinship, archeological, anthropological, biological, linguistic, oral tradition, and historical information, as well as other expert opinion, supports the conclusion that Ancestral Puebloan sites are culturally affiliated with modern Puebloan Tribes. The style and dating of the associated funerary objects from the Ignacio site burials and the site in Montezuma County also strongly indicate that these are of Puebloan manufacture.

Determinations Made by Fort Lewis College

Officials of Fort Lewis College have determined that:

• Pursuant to 25 U.S.C. 3001(3)(A), the seven objects described in this notice are reasonably believed to have been placed with or near individual human remains at the time of death or later as part of the death rite or ceremony.

• Pursuant to 25 U.S.C. 3001(2), there is a relationship of shared group identity that can be reasonably traced between the Native American associated funerary objects and the Hopi Tribe of Arizona.

Additional Requestors and Disposition

Lineal descendants or representatives of any Indian Tribe or Native Hawaiian organization not identified in this notice that wish to request transfer of control of these associated funerary objects should submit a written request with information in support of the request to Dr. Kathleen Fine-Dare, NAGPRA Liaison, Fort Lewis College, 205 Center of Southwest Studies, 1000 Rim Drive, Durango, CO 81301, telephone (970) 247-7438, email fine_k@fortlewis.edu, by February 22, 2022. After that date, if no additional requestors have come forward, transfer of control of the associated funerary objects to the Hopi Tribe of Arizona may proceed.

Fort Lewis College is responsible for notifying The Consulted Tribes that this notice has been published.

Dated: January 12, 2022.
Melanie O'Brien,
Manager, National NAGPRA Program.

[FR Doc. 2022-01044 Filed 1-19-22; 8:45 am]

BILLING CODE 4312-52-P